DEPARTMENT OF DEFENSE

Office of the Secretary

Renewal of Department of Defense Federal Advisory Committees

AGENCY: Department of Defense (DoD).

ACTION: Renewal of Federal Advisory Committee.

SUMMARY: Under the provisions of the Federal Advisory Committee Act of 1972, (5 U.S.C. Appendix), the Government in the Sunshine Act of 1976 (5 U.S.C. 552b), and 41 CFR 102-3.50(d), the Department of Defense gives notice that it is renewing the charter for the Secretary of the Navy Advisory Panel (hereafter referred to as “the Panel”).

The Panel is a discretionary Federal advisory committee that shall provide the Secretary of Defense, through the Secretary of the Navy, independent advice and recommendations on critical matters concerning the Department of the Navy. The Panel's focus will include the Navy energy program, the shipbuilding defense industrial base, Asia/Pacific engagement, intelligence organization and related maritime issues.

The Panel reports to the Secretary of the Navy who is authorized to act upon the Panel's advice and recommendations.

The Panel shall be composed of no more than 15 members, who are eminent authorities in the fields of national security policy, intelligence, science, engineering, or energy and industry. Panel members appointed by the Secretary of Defense, who are not full-time or permanent part-time Federal officers or employees, shall be appointed to serve as experts and consultants under the authority of 5 U.S.C. 3109, and to serve as special government employees. Panel members shall be appointed on an annual basis by the Secretary of Defense, and with the exception of travel and per diem for official travel, Panel members shall serve without compensation.

The Secretary of the Navy shall select the Panel's Chairperson from the total membership.

All Panel members are appointed to provide advice on behalf of the government on the basis of their best judgment without representing any particular point of view and in a manner that is free from conflict of interest.

With DoD approval, the Panel is authorized to establish subcommittees, as necessary and consistent with its mission. These subcommittees shall operate under the provisions of the Federal Advisory Committee Act of 1972, the Government in the Sunshine Act of 1976 (5 U.S.C. 552b), other governing Federal statutes and regulations, and governing DoD policies.

Such subcommittees shall not work independently of the chartered Panel, and shall report all their recommendations and advice to the Panel for full deliberation and discussion. Subcommittees have no authority to make decisions on behalf of the chartered Panel; nor shall any subcommittee or its members report or update directly to the Department of Defense or any Federal officers or employees who are not Panel members.

All subcommittee members shall be appointed in the same manner as the Panel members; that is, the Secretary of Defense shall appoint subcommittee members even if the member in question is already a Panel member.

Such individuals, if not full-time or part-time government employees, shall be appointed to serve as experts and consultants under the authority of 5 U.S.C. 3109, and to serve as special government employees, whose appointments must be renewed on an annual basis. With the exception of travel, subcommittee members shall serve without compensation.

FOR FURTHER INFORMATION CONTACT: Jim Freeman, Deputy Advisory Committee Management Officer for the Department of Defense, (703) 692-5952.

SUPPLEMENTARY INFORMATION: The Panel shall meet at the call of the Designated Federal Officer, in consultation with the Secretary of the Navy and the Panel's Chairperson and the estimated number of Panel meetings is three per year.

The Designated Federal Officer, pursuant to DoD policy, shall be a full-time or permanent part-time DoD employee, and shall be appointed in accordance with governing DoD policies and procedures. In addition, the Designated Federal Officer is required to be in attendance at all Panel and subcommittee meetings for the entire duration of each and every meeting. However, in the absence of the Designated Federal Officer, the Alternate Designated Federal Officer shall attend the entire duration of the Panel or subcommittee meeting.

Pursuant to 41 CFR 102-3.105(j) and 102-3.140, the public or interested organizations may submit written statements to the Secretary of the Navy Advisory Panel's membership about the Panel's mission and functions. Written statements may be submitted at any time or in response to the stated agenda of planned meeting of Secretary of the Navy Advisory Panel.

All written statements shall be submitted to the Designated Federal Officer for the Secretary of the Navy Advisory Panel, and this individual will ensure that the written statements are provided to the membership for their consideration. Contact information for the Secretary of the Navy Advisory Panel's Designated Federal Officer can be obtained from the GSA's FACA Database— https://www.fido.gov/facadatabase/public.asp.

The Designated Federal Officer, pursuant to 41 CFR 102-3.150, will announce planned meetings of the Secretary of the Navy Advisory Panel. The Designated Federal Officer, at that time, may provide additional guidance on the submission of written statements that are in response to the stated agenda for the planned meeting in question.

Dated: October 26, 2011.
Aaron Siegel,
Alternate OSD Federal Register Liaison Officer, Department of Defense.

[FR Doc. 2011-28148 Filed 10-31-11; 8:45 am]

BILLING CODE 5001-06-P